DEPARTMENT OF LABOR

Office of the Secretary

20 CFR Chs. I, IV, V, VI, VII, and IX

29 CFR Subtitle A and Chs. II, IV, V, XVII, and XXV

30 CFR Ch. I

41 CFR Ch. 60

48 CFR Ch. 29

Semiannual Agenda of Regulations

AGENCY: Office of the Secretary, Labor.

ACTION: Semiannual Regulatory Agenda.

SUMMARY: The internet has become the means for disseminating the entirety of the Department of Labor's semiannual regulatory agenda. However, the Regulatory Flexibility Act requires publication of a regulatory flexibility agenda in the Federal Register. This Federal Register Notice contains the regulatory flexibility agenda.

FOR FURTHER INFORMATION CONTACT: Laura M. Dawkins, Director, Office of Regulatory and Programmatic Policy, Office of the Assistant Secretary for Policy, U.S. Department of Labor, 200 Constitution Avenue NW, Room S-2312, Washington, DC 20210; (202) 693-5959.

Note: Information pertaining to a specific regulation can be obtained from the agency contact listed for that particular regulation.

SUPPLEMENTARY INFORMATION: Executive Order 12866 requires the semiannual publication of an agenda of regulations that contains a listing of all the regulations the Department of Labor expects to have under active consideration for promulgation, proposal, or review during the coming one-year period. The entirety of the Department's semiannual agenda is available online at www.reginfo.gov.

The Regulatory Flexibility Act (5 U.S.C. 602) requires DOL to publish in the Federal Register a regulatory flexibility agenda. The Department's Regulatory Flexibility Agenda, published with this notice, includes only those rules on its semiannual agenda that are likely to have a significant economic impact on a substantial number of small entities; and those rules identified for periodic review in keeping with the requirements of section 610 of the Regulatory Flexibility Act. Thus, the regulatory flexibility agenda is a subset of the Department's semiannual regulatory agenda. The Department's Regulatory Flexibility Agenda does not include section 610 items at this time.

All interested members of the public are invited and encouraged to let departmental officials know how our regulatory efforts can be improved and are invited to participate in and comment on the review or development of the regulations listed on the Department's agenda.

Eugene Scalia,
Secretary of Labor.

Office of Federal Contract Compliance Programs—Final Rule Stage
Sequence No. | Title | Regulation Identifier No.
147 | Implementing Legal Requirements Regarding the Equal Opportunity Clause's Religious Exemption | 1250-AA09

Office of Labor-Management Standards—Completed Actions
Sequence No. | Title | Regulation Identifier No.
148 | Trust Annual Reports | 1245-AA09

Wage and Hour Division—Proposed Rule Stage
Sequence No. | Title | Regulation Identifier No.
149 | Independent Contractor Status Under the Fair Labor Standards Act | 1235-AA34

Employment and Training Administration—Proposed Rule Stage
Sequence No. | Title | Regulation Identifier No.
150 | Temporary Employment of H-2B Foreign Workers in Certain Itinerant Occupations in the United States | 1205-AB93

Employment and Training Administration—Completed Actions
Sequence No. | Title | Regulation Identifier No.
151 | Apprenticeship Programs, Labor Standards for Registration, Amendment of Regulations | 1205-AB85
152 | Modernizing Recruitment Requirements Under the H-2B Program | 1205-AB91

Employee Benefits Security Administration—Proposed Rule Stage
Sequence No. | Title | Regulation Identifier No.
153 | Pooled Employer Plans Under the SECURE Act | 1210-AB94

Employee Benefits Security Administration—Completed Actions
Sequence No. | Title | Regulation Identifier No.
154 | Default Electronic Disclosures by Employee Pension Benefit Plans Under ERISA | 1210-AB90

Occupational Safety and Health Administration—Prerule Stage
Sequence No. | Title | Regulation Identifier No.
155 | Emergency Response | 1218-AC91
156 | Tree Care Standard | 1218-AD04
157 | Prevention of Workplace Violence in Health Care and Social Assistance | 1218-AD08

Occupational Safety and Health Administration—Proposed Rule Stage
Sequence No. | Title | Regulation Identifier No.
158 | Communication Tower Safety | 1218-AC90

Occupational Safety and Health Administration—Long-Term Actions
Sequence No. | Title | Regulation Identifier No.
159 | Infectious Diseases | 1218-AC46
160 | Process Safety Management and Prevention of Major Chemical Accidents | 1218-AC82

DEPARTMENT OF LABOR (DOL)

Office of Federal Contract Compliance Programs (OFCCP)

Final Rule Stage

147. Implementing Legal Requirements Regarding the Equal Opportunity Clause's Religious Exemption

E.O. 13771 Designation: Deregulatory.

Legal Authority: Not Yet Determined.

Abstract: OFCCP plans to update its regulations to comply with current law regarding protections for religion-exercising organizations.

Timetable:

Action | Date | FR Cite
NPRM | 08/15/19 | 84 FR 41677
NPRM Comment Period End | 09/16/19
Final Rule | 08/00/20

Regulatory Flexibility Analysis Required: Yes.

Agency Contact: Tina Williams, Director, Division of Policy and Program Development, Department of Labor, Office of Federal Contract Compliance Programs, 200 Constitution Avenue NW, Washington, DC 20210, Phone: 202 693-0104.

RIN: 1250-AA09

DEPARTMENT OF LABOR (DOL)

Office of Labor-Management Standards (OLMS)

Completed Actions

148. Trust Annual Reports

E.O. 13771 Designation: Regulatory.

Legal Authority: 29 U.S.C. 438

Abstract: The Department of Labor's Office of Labor-Management Standards re-established a Form T-1 to capture financial information pertinent to trusts in which a labor organization is “interested” (section 3(l) “trusts”), as defined by section 3(l) of the Labor-Management Reporting and Disclosure Act of 1959 (LMRDA or Act), 29 U.S.C. 402(l); information that has largely gone unreported. See 84 FR 25130. The information in this regulatory plan entry is derived from the proposed rule. The LMRDA's various reporting provisions were designed to empower labor organization members by providing them the means to maintain democratic control over their labor organizations and ensure a proper accounting of labor organization funds. The final rule brings the reporting requirements for labor organizations and section 3(l) trusts in line with contemporary expectations for the disclosure of financial information.

Timetable:

Action | Date | FR Cite
NPRM | 05/30/19 | 84 FR 25130
NPRM Comment Period End | 07/29/19
Final Rule | 03/06/20 | 85 FR 13414
Final Rule; Correction | 03/30/20 | 85 FR 17500
Final Rule Effective | 04/06/20

Regulatory Flexibility Analysis Required: Yes.

Agency Contact: Andrew R. Davis, Chief, Division of Interpretations and Standards, Office of Labor-Management Standards, Department of Labor, Office of Labor-Management Standards, 200 Constitution Avenue NW, FP Building, Room N-5609, Washington, DC 20210, Phone: 202 693-0123, Fax: 202 693-1340, Email: olms-public@dol.gov.

RIN: 1245-AA09

DEPARTMENT OF LABOR (DOL)

Wage and Hour Division (WHD)

Proposed Rule Stage

149. • Independent Contractor Status Under the Fair Labor Standards Act

E.O. 13771 Designation: Deregulatory.

Legal Authority: Fair Labor Standards Act, 29 U.S.C. 201 et seq.

Abstract: The Department of Labor is proposing a regulation for determining independent contractor status under the Fair Labor Standards Act.

Timetable:

Action | Date | FR Cite
NPRM | 06/00/20

Regulatory Flexibility Analysis Required: Yes.

Agency Contact: Amy DeBisschop, Director of the Division of Regulations, Legislation and Interpretation, Department of Labor, Wage and Hour Division, 200 Constitution Avenue NW, FP Building, Room S-3502, Washington, DC 20210, Phone: 202 693-0406.

RIN: 1235-AA34

DEPARTMENT OF LABOR (DOL)

Employment and Training Administration (ETA)

Proposed Rule Stage

150. Temporary Employment of H-2B Foreign Workers in Certain Itinerant Occupations in the United States

E.O. 13771 Designation: Regulatory.

Legal Authority: 8 U.S.C. 1184; 8 U.S.C. 1103

Abstract: The United States Department of Labor's (DOL) Employment and Training Administration and Wage and Hour Division, and the United States Department of Homeland Security (DHS), U.S. Citizenship and Immigration Services, are jointly amending regulations regarding the H-2B non-immigrant visa program at 20 CFR part 655, subpart A. The Notice of Proposed Rulemaking (NPRM) will establish standards and procedures for employers seeking to hire foreign temporary nonagricultural workers for certain itinerant job opportunities, including entertainers and carnivals and utility vegetation management.

Timetable:

Action | Date | FR Cite
NPRM | 03/00/21

Regulatory Flexibility Analysis Required: Yes.

Agency Contact: Brian Pasternak, Administrator, Office of Foreign Labor Certification, Department of Labor, Employment and Training Administration, 200 Constitution Avenue NW, FP Building, Washington, DC 20210, Phone: 202 513-7350.

RIN: 1205-AB93

DEPARTMENT OF LABOR (DOL)

Employment and Training Administration (ETA)

Completed Actions

151. Apprenticeship Programs, Labor Standards for Registration, Amendment of Regulations

E.O. 13771 Designation: Regulatory.

Legal Authority: The National Apprenticeship Act, as amended (50 Stat. 664; 29 U.S.C. 50)

Abstract: This final rule revised title 29 CFR part 29, Labor Standards for the Registration of Apprenticeship Programs to establish a process for recognizing Standards Recognition Entities which in turn will recognize high-quality, industry-recognized apprenticeship programs.

Timetable:

Action | Date | FR Cite
NPRM | 06/25/19 | 84 FR 29970
NPRM Comment Period End | 08/26/19
Final Rule | 03/11/20 | 85 FR 14294
Final Rule Effective | 05/11/20

Regulatory Flexibility Analysis Required: Yes.

Agency Contact: John V. Ladd, Administrator, Office of Apprenticeship, Department of Labor, Employment and Training Administration, 200 Constitution Avenue NW, FP Building, Room C-5311, Washington, DC 20210, Phone: 202 693-2796, Fax: 202 693-3799, Email: ladd.john@dol.gov.

RIN: 1205-AB85

152. Modernizing Recruitment Requirements Under the H-2B Program

E.O. 13771 Designation: Deregulatory.

Legal Authority: 8 U.S.C. 1184; 8 U.S.C. 1103

Abstract: The United States Department of Labor's (DOL) Employment and Training Administration and the United States Department of Homeland Security (DHS) U.S. Citizenship and Immigration Services jointly amended regulations regarding the H-2B non-immigrant visa program at 20 CFR part 655, subpart A. This final rule modernizes and improves the labor market test that DOL uses to assess whether qualified U.S. workers are available by: Rescinding the requirement that an employer advertise its job opportunity in a print newspaper of general circulation in the area of intended employment, and expanding and enhancing DOL's electronic job registry to disseminate available job opportunities to the widest audience possible.

Timetable:

Action | Date | FR Cite
NPRM | 11/09/18 | 83 FR 55977
NPRM Comment Period End | 12/10/18
NPRM Comment Period End Extension to 12/28/2018 | 12/10/18 | 83 FR 63430
Final Rule | 11/15/19 | 84 FR 62431
Final Rule Effective | 12/16/19

Regulatory Flexibility Analysis Required: Yes.

Agency Contact: Brian Pasternak, Administrator, Office of Foreign Labor Certification, Department of Labor, Employment and Training Administration, 200 Constitution Avenue NW, FP Building, Washington, DC 20210, Phone: 202 513-7350.

RIN: 1205-AB91

DEPARTMENT OF LABOR (DOL)

Employee Benefits Security Administration (EBSA)

Proposed Rule Stage

153. • Pooled Employer Plans Under the Secure Act

E.O. 13771 Designation: Fully or Partially Exempt.

Legal Authority: Pub. L. 116-94, sec. 101, Setting Every Community Up for Retirement Enhancement Act of 2019

Abstract: Section 101 of the Setting Every Community Up for Retirement Enhancement Act of 2019 (SECURE Act) amended the Employee Retirement Income Security Act of 1974 (ERISA) to include a pooled employer plan as a type of single employer pension benefit plan, and granted the Secretary authority to issue such guidance as the Secretary determines appropriate to carry out the purposes of the new provisions. This rulemaking action will implement the ERISA amendments in section 101 of the SECURE Act.

Timetable:

Action | Date | FR Cite
NPRM | 06/00/20

Regulatory Flexibility Analysis Required: Yes.

Agency Contact: Jeffrey J. Turner, Deputy Director, Office of Regulations and Interpretations, Department of Labor, Employee Benefits Security Administration, 200 Constitution Avenue NW, FP Building, Room N-5655, Washington, DC 20210, Phone: 202 693-8500.

RIN: 1210-AB94

DEPARTMENT OF LABOR (DOL)

Employee Benefits Security Administration (EBSA)

Completed Actions

154. Default Electronic Disclosures by Employee Pension Benefit Plans Under ERISA

E.O. 13771 Designation: Deregulatory.

Legal Authority: 29 U.S.C. 1024 (ERISA sec. 104); 29 U.S.C. 1029(c) (ERISA sec. 109(c)); 29 U.S.C. 1030 (ERISA sec. 110); 29 U.S.C. 1135 (ERISA sec. 505); E.O. 13847, 83 FR 45321 (August 21, 2018)

Abstract: This regulatory action is being finalized in response to Executive Order 13847, Strengthening Retirement Security in America, and will reduce the costs and burdens imposed on employers and other plan fiduciaries responsible for the production and distribution of retirement plan disclosures required under title I of the Employee Retirement Income Security Act, as well as ways to make these disclosures more understandable and useful for participants and beneficiaries, by allowing disclosure via internet posting or by email, as a default.

Timetable:

Action | Date | FR Cite
NPRM | 10/23/19 | 84 FR 56894
NPRM Comment Period End | 11/22/19 |
Final Rule | 05/27/20 | 85 FR 31884
Final Action Effective | 05/27/20 |
Final Rule Applicability Date | 05/27/20 |

Regulatory Flexibility Analysis Required: Yes.

Agency Contact: Jeffrey J. Turner, Deputy Director, Office of Regulations and Interpretations, Department of Labor, Employee Benefits Security Administration, 200 Constitution Avenue NW, FP Building, Room N-5655, Washington, DC 20210, Phone: 202 693-8500.

RIN: 1210-AB90

DEPARTMENT OF LABOR (DOL)

Occupational Safety and Health Administration (OSHA)

Prerule Stage

155. Emergency Response

E.O. 13771 Designation: Regulatory.

Legal Authority: 29 U.S.C. 655(b); 29 U.S.C. 657; 5 U.S.C. 609

Abstract: OSHA currently regulates aspects of emergency response and preparedness; some of these standards were promulgated decades ago, and none were designed as comprehensive emergency response standards. Consequently, they do not address the full range of hazards or concerns currently facing emergency responders, and other workers providing skilled support, nor do they reflect major changes in performance specifications for protective clothing and equipment. The agency acknowledged that current OSHA standards also do not reflect all the major developments in safety and health practices that have already been accepted by the emergency response community and incorporated into industry consensus standards. OSHA is considering updating these standards with information gathered through an RFI and public meetings.

Timetable:

Action | Date | FR Cite
Stakeholder Meetings | 07/30/14 |
Convene NACOSH Workgroup | 09/09/15 |
NACOSH Review of Workgroup Report | 12/14/16 |
Initiate SBREFA | 10/00/20 |

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AC91

156. Tree Care Standard

E.O. 13771 Designation: Regulatory.

Legal Authority: Not Yet Determined

Abstract: There is no OSHA standard for tree care operations; the agency currently applies a patchwork of standards to address the serious hazards in this industry. The tree care industry previously petitioned the agency for rulemaking and OSHA issued an ANPRM (September 2008). OSHA initiated and completed a Small Business Regulatory Enforcement Fairness Act (SBREFA) panel in April 2020, collecting information from affected small entities on a potential standard, including the scope of the standard, effective work practices, and arboricultural specific uses of equipment to guide OSHA in developing a rule that would best address industry safety and health concerns. Tree care continues to be a high-hazard industry.

Timetable:

Action | Date | FR Cite
Stakeholder Meeting | 07/13/16 |
Initiate SBREFA | 01/10/20 |
Complete SBREFA | 05/22/20 |

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AD04

157. Prevention of Workplace Violence in Health Care and Social Assistance

E.O. 13771 Designation: Regulatory.

Legal Authority: 29 U.S.C. 655(b); 5 U.S.C. 609

Abstract: The Request for Information (RFI) (published on December 7, 2016 81 FR 88147)) provides OSHA's history with the issue of workplace violence in health care and social assistance, including a discussion of the Guidelines that were initially published in 1996, a 2014 update to the Guidelines, the agency's use of 5(a)(1) in enforcement cases in health care. The RFI solicited information primarily from health care employers, workers and other subject matter experts on impacts of violence, prevention strategies, and other information that will be useful to the agency. OSHA was petitioned for a standard preventing workplace violence in health care by a broad coalition of labor unions, and in a separate petition by the National Nurses United. On January 10, 2017, OSHA granted the petitions.

Timetable:

Action | Date | FR Cite
Request for Information (RFI) | 12/07/16 | 81 FR 88147
RFI Comment Period End | 04/06/17 |
Initiate SBREFA | 12/00/20 |

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AD08

DEPARTMENT OF LABOR (DOL)

Occupational Safety and Health Administration (OSHA)

Proposed Rule Stage

158. Communication Tower Safety

E.O. 13771 Designation: Regulatory.

Legal Authority: 29 U.S.C. 655(b); 5 U.S.C. 609

Abstract: While the number of employees engaged in the communication tower industry remains small, the fatality rate is very high. Over the past 20 years, this industry has experienced an average fatality rate that greatly exceeds that of the construction industry. Due to recent FCC spectrum auctions and innovations in cellular technology, there will be a very high level of construction activity taking place on communication towers over the next few years. A similar increase in the number of construction projects needed to support cellular phone coverage triggered a spike in fatality and injury rates years ago. Based on information collected from an April 2016 Request for Information (RFI), OSHA concluded that current OSHA requirements such as those for fall protection and personnel hoisting, may not adequately cover all hazards of communication tower construction and maintenance activities. OSHA will use information collected from a Small Business Regulatory Enforcement Fairness Act (SBREFA) panel to identify effective work practices and advances in engineering technology that would best address industry safety and health concerns. The Panel carefully considered the issue of the expansion of the rule beyond just communication towers. OSHA will continue to consider also covering structures that have telecommunications equipment on or attached to them (e.g., buildings, rooftops, water towers, billboards).

Timetable:

Action | Date | FR Cite
Request for Information (RFI) | 04/15/15 | 80 FR 20185
RFI Comment Period End | 06/15/15 |
Initiate SBREFA | 01/04/17 |
Initiate SBREFA | 05/31/18 |
Complete SBREFA | 10/11/18 |
NPRM | 12/00/20 |

Regulatory Flexibility Analysis Required: Yes.

Agency Contact: Scott Ketcham, Director, Directorate of Construction, Department of Labor, Occupational Safety and Health Administration, 200 Constitution Avenue NW, Room N-3468, FP Building, Washington, DC 20210, Phone: 202 693-2020, Fax: 202 693-1689, Email: ketcham.scott@dol.gov.

RIN: 1218-AC90

DEPARTMENT OF LABOR (DOL)

Occupational Safety and Health Administration (OSHA)

Long-Term Actions

159. Infectious Diseases

E.O. 13771 Designation: Regulatory.

Legal Authority: 5 U.S.C. 533; 29 U.S.C. 657 and 658; 29 U.S.C. 660; 29 U.S.C. 666; 29 U.S.C. 669; 29 U.S.C. 673

Abstract: Employees in health care and other high-risk environments face long-standing infectious disease hazards such as tuberculosis (TB), varicella disease (chickenpox, shingles), and measles (rubella), as well as new and emerging infectious disease threats, such as Severe Acute Respiratory Syndrome (SARS) and pandemic influenza. Health care workers and workers in related occupations, or who are exposed in other high-risk environments, are at increased risk of contracting TB, SARS, Methicillin-Resistant Staphylococcus Aureus (MRSA), and other infectious diseases that can be transmitted through a variety of exposure routes. OSHA is examining regulatory alternatives for control measures to protect employees from infectious disease exposures to pathogens that can cause significant disease. Workplaces where such control measures might be necessary include: Health care, emergency response, correctional facilities, homeless shelters, drug treatment programs, and other occupational settings where employees can be at increased risk of exposure to potentially infectious people. A standard could also apply to laboratories, which handle materials that may be a source of pathogens, and to pathologists, coroners' offices, medical examiners, and mortuaries.

Timetable:

Action | Date | FR Cite
Request for Information (RFI) | 05/06/10 | 75 FR 24835
RFI Comment Period End | 08/04/10 |
Analyze Comments | 12/30/10 |
Stakeholder Meetings | 07/05/11 | 76 FR 39041
Initiate SBREFA | 06/04/14 |
Complete SBREFA | 12/22/14 |
NPRM | To Be Determined

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AC46

160. Process Safety Management and Prevention of Major Chemical Accidents

E.O. 13771 Designation: Regulatory.

Legal Authority: 29 U.S.C. 655; 29 U.S.C. 657

Abstract: The Occupational Safety and Health Administration (OSHA) issued a Request for Information (RFI) on December 9, 2013 (78 FR 73756). The RFI identified issues related to modernization of the Process Safety Management standard and related standards necessary to meet the goal of preventing major chemical accidents.

Timetable:

Action | Date | FR Cite
Request for Information (RFI) | 12/09/13 | 78 FR 73756
RFI Comment Period Extended | 03/07/14 | 79 FR 13006
RFI Comment Period Extended End | 03/31/14 |
Initiate SBREFA | 06/08/15 |
SBREFA Report Completed | 08/01/16 |
Next Action Undetermined

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AC82

[FR Doc. 2020-16759 Filed 8-25-20; 8:45 am]

BILLING CODE 4510-04-P